OFFICE OF PERSONNEL MANAGEMENT

Excepted Service

AGENCY: Office of Personnel Management (OPM).

ACTION: Notice.

SUMMARY: This notice identifies Schedule A, B, and C appointing authorities applicable to a single agency that were established, modified, or revoked from April 1, 2023, to April 30, 2023.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but OPM publishes a notice of agency-specific authorities established or revoked each month in the Federal Register at https://www.govinfo.gov/. OPM also publishes an annual notice of the consolidated listing of all Schedule A, B, and C appointing authorities, current as of June 30, in the Federal Register.

Below are the Schedule A, B, and C appointing authorities applicable to a single agency that were established, modified, or revoked from April 1, 2023, to April 30, 2023.

Schedule A

No Schedule A Authorities to report during April 2023.

Schedule B

No Schedule B Authorities to report during April 2023.

Schedule C

The following Schedule C appointing authorities were approved during April 2023.

Agency name | Organization name | Position title | Authorization No. | Effective date
DEPARTMENT OF AGRICULTURE | Foreign Agricultural Service | Senior Policy Advisor | DA230077 | 04/04/2023
| Food and Nutrition Service | Senior Policy Advisor | DA230078 | 04/04/2023
| Office of the Secretary | White House Liaison | DA230072 | 04/14/2023
| Office of the Under Secretary for Trade and Foreign Agricultural Affairs | Chief of Staff | DA230079 | 04/25/2023
DEPARTMENT OF COMMERCE | National Institute of Standards and Technology | Press Secretary | DC230117 | 04/06/2023
| National Oceanic and Atmospheric Administration | Legislative Specialist | DC230123 | 04/20/2023
| Office of Policy and Strategic Planning | Special Assistant | DC230119 | 04/06/2023
| Office of Public Affairs | Deputy Speechwriter | DC230124 | 04/20/2023
| Office of the Chief of Staff | Senior Advisor | DC230112 | 04/06/2023
DEPARTMENT OF DEFENSE | Office of the Under Secretary of Defense (Intelligence and Security) | Special Assistant | DD230141 | 04/13/2023
DEPARTMENT OF THE AIR FORCE | Office of Assistant Secretary Air Force for Financial Management and Comptroller | Special Assistant | DF230016 | 04/17/2023
DEPARTMENT OF THE NAVY | Office of the Assistant Secretary of Navy (Manpower and Reserve Affairs) | Attorney-Advisor (General) | DN230021 | 04/28/2023
| Secretary of the Navy | Special Assistant | DN230028 | 04/28/2023
DEPARTMENT OF EDUCATION | Office of the Deputy Secretary | Chief of Staff | DB230071 | 04/26/2023
| Office of the Secretary | Senior Advisor, Labor Relations Deputy Director of Scheduling Special Assistant, Advance | DB230069 DB230076 DB230080 | 04/06/2023 04/20/2023 04/27/2023
DEPARTMENT OF ENERGY | Office of Advanced Research Projects Agency—Energy | Senior Advisor | DE230044 | 04/28/2023
ENVIRONMENTAL PROTECTION AGENCY | Office of the Associate Administrator for Congressional and Intergovernmental Relations | Senior Advisor for Implementation | EP230072 | 04/04/2023
|  | Deputy Associate Administrator for House Relations | EP230073 | 04/04/2023
|  | Special Advisor for House Relations | EP230076 | 04/14/2023
EXPORT-IMPORT BANK | Office of Congressional and Intergovernmental Affairs | Deputy Director for Congressional and Intergovernmental Affairs | EB230010 | 04/24/2023
DEPARTMENT OF HEALTH AND HUMAN SERVICES | Office of the Assistant Secretary for Legislation | Senior Advisor and Congressional Liaison | DH230180 | 04/06/2023
| Office of the Assistant Secretary for Public Affairs | Special Assistant | DH230183 | 04/06/2023
DEPARTMENT OF HOMELAND SECURITY | Transportation Security Administration | Advisor to the Executive Director for Strategy Policy Coordination and Innovation | DM230196 | 04/24/2023
| Office of Partnership and Engagement | Partnership and Engagement Specialist | DM230207 | 04/25/2023
| Office of United State Citizenship and Immigration Services | Senior Advisor | DM230220 | 04/25/2023
| Office of the Secretary | Director of Scheduling and Advance | DM230232 | 04/28/2023
DEPARTMENT OF HOUSING AND URBAN DEVELOPMENT | Office of Housing | Policy Advisor | DU230047 | 04/21/2023
| Office of Policy Development and Research | Senior Advisor Special Advisor | DU230048 DU230050 | 04/17/2023 04/26/2023
| Office of Public Affairs | Deputy Assistant Secretary for Public Affairs | DU230046 | 04/06/2023
|  | Associate Director for Public Engagement | DU230042 | 04/10/2023
| Office of the Administration | Special Assistant | DU230054 | 04/28/2023
| Office of the Deputy Secretary | Senior Policy Advisor | DU230049 | 04/17/2023
DEPARTMENT OF THE INTERIOR | Bureau of Land Management | Senior Advisor | DI230068 | 04/19/2023
| Office of the Solicitor | Senior Advisor for Oversight | DI230069 | 04/21/2023
DEPARTMENT OF LABOR | Office of Wage and Hour Division | Policy Advisor | DL230062 | 04/26/2023
OFFICE OF MANAGEMENT AND BUDGET | Office of the Director | Confidential Assistant | BO230023 | 04/06/2023
OFFICE OF PERSONNEL MANAGEMENT | Office of the Director | Confidential Assistant | PM230038 | 04/07/2023
OFFICE OF SCIENCE AND TECHNOLOGY POLICY | Office of Science and Technology Policy | Director for Legislative Affairs | TS230004 | 04/19/2023
|  | Deputy Director for Industrial Innovation | TS230005 | 04/19/2023
SMALL BUSINESS ADMINISTRATION | Office of the Administrator | Deputy Director of Scheduling and Advance | SB230027 | 04/28/2023
DEPARTMENT OF STATE | Bureau of Democracy, Human Rights and Labor | Deputy Assistant Secretary | DS230114 | 04/07/2023
| Bureau of Legislative Affairs | Legislative Establishment Management Officer (House) | DS230120 | 04/17/2023
|  | Legislative Management Officer (Senate) | DS230121 | 04/17/2023
| Office of the Secretary | Special Advisor (Speechwriter) | DS230122 | 04/17/2023
|  | Chief of Staff | DS230126 | 04/21/2023
DEPARTMENT OF TRANSPORTATION | Office of the Under Secretary of Transportation for Policy | Advisor to the Under Secretary of Transportation for Policy | DT230076 | 04/11/2023
| Office of the General Counsel | Associate General Counsel | DT230084 | 04/26/2023
| Immediate Office of the Administrator | Director of Governmental Affairs | DT230085 | 04/26/2023
DEPARTMENT OF THE TREASURY | Department of the Treasury | Spokesperson Special Assistant Senior Advisor Senior Policy Advisor | DY230079 DY230096 DY230098 DY230102 | 04/04/2023 04/19/2023 04/19/2023 04/28/2023

The following Schedule C appointing authorities were revoked during April 2023.

Agency name | Organization name | Position title | Request No. | Vacate date
DEPARTMENT OF AGRICULTURE | Agricultural Marketing Service | Chief of Staff | DA220143 | 04/08/2023
| Office of the Assistant Secretary for Congressional Relations | Legislative Director | DA210064 | 04/18/2023
DEPARTMENT OF COMMERCE | Bureau of Industry and Security | Special Assistant | DC220047 | 04/08/2023
| Office of International Trade Administration | Deputy Director of Legislative Affairs | DC230018 | 04/08/2023
|  | Special Assistant | DC220143 | 04/08/2023
| National Telecommunications and Information Administration | Special Policy Advisor | DC220061 | 04/08/2023
|  | Project Management Specialist | DC220103 | 04/08/2023
|  | Public Engagement Advisor | DC220104 | 04/22/2023
|  | Senior Advisor (2) | DC220135 DC220022 | 04/15/2023 04/22/2023
| Office of Legislative and Intergovernmental Affairs | Director of Intergovernmental Affairs | DC220124 | 04/21/2023
| Office of the Chief Financial Officer and Assistant Secretary for Administration | Chief of Staff | DC220076 | 04/22/2023
| Office of the Under Secretary | Policy Advisor | DC220089 | 04/08/2023
DEPARTMENT OF EDUCATION | Office of the Secretary | Confidential Assistant (2) | DB220034 DB220040 | 04/08/2023 04/22/2023
| Office of the Under Secretary | Confidential Assistant | DB220015 | 04/22/2023
DEPARTMENT OF ENERGY | Office of the Assistant Secretary for Congressional and Intergovernmental Affairs | Tribal Liaison Special Assistant | DE220074 DE230004 | 04/08/2023 04/14/2023
| Office of Public Affairs | Press Secretary Deputy Press Secretary | DE220011 DE210198 | 04/08/2023 04/22/2023
| Office of the Deputy Secretary | Chief of Staff | DE210161 | 04/08/2023
| Office of the Secretary | Special Assistant | DE220035 | 04/08/2023
| Office of the Under Secretary for Science | Special Assistant | DE210191 | 04/08/2023
DEPARTMENT OF HEALTH AND HUMAN SERVICES | Office of Global Affairs | Chief of Staff | DH210237 | 04/23/2023
| Office of Intergovernmental and External Affairs | Senior Advisor, Equity Taskforce | DH210124 | 04/10/2023
| Office of the Assistant Secretary for Preparedness and Response | Senior Policy Advisor, Covid Response | DH210148 | 04/08/2023
| Office of the General Counsel | Senior Counsel, Oversight | DH230009 | 04/22/2023
DEPARTMENT OF HOUSING AND URBAN DEVELOPMENT | Office of Policy Development and Research | Special Advisor to the Assistant Secretary | DU210029 | 04/22/2023
| Office of the Deputy Secretary | Policy Advisor | DU220020 | 04/22/2023
| Office of the Secretary | Executive Assistant to the Secretary Policy Advisor | DU210025 DU220041 | 04/22/2023 04/08/2023
DEPARTMENT OF JUSTICE | National Security Division | Senior Counsel | DJ210126 | 04/07/2023
DEPARTMENT OF LABOR | Office of Public Affairs | Speechwriter Special Assistant | DL210077 DL220068 | 04/07/2023 04/03/2023
| Office of the Secretary | Chief Economist | DL220046 | 04/16/2023
DEPARTMENT OF STATE | Bureau of Legislative Affairs | Senior Advisor (Nominations) | DS220037 | 04/22/2023
FEDERAL TRADE COMMISSION | Office of the Chair | Writer-Editor (Speechwriter) | FT220012 | 04/07/2023
OFFICE OF THE SECRETARY OF DEFENSE | Office of the Assistant Secretary of Defense (Legislative Affairs) | Special Assistant (Team Chief, Policy) | DD220141 | 04/22/2023
| Office of the Director (Cost Assessment and Program Evaluation) | Special Assistant | DD220017 | 04/22/2023

Authority: 5 U.S.C. 3301 and 3302; E.O. 10577, 3 CFR, 1954-1958 Comp., p. 218.

Office of Personnel Management.
Kayyonne Marston,
Federal Register Liaison.

[FR Doc. 2024-11353 Filed 5-22-24; 8:45 am]

BILLING CODE 6325-39-P